DEPARTMENT OF ENERGY

Federal Energy Regulatory Commission

Combined Notice of Filings

Take notice that the Commission has received the following Natural Gas Pipeline Rate and Refund Report filings:

Filings Instituting Proceedings

Docket Numbers: PR22-4-000.

Applicants: Rocky Mountain Natural Gas LLC.

Description: Submits tariff filing per 284.123(b),(e)/: RMNG 2021 SOC Filing to be effective 11/1/2021.

Filed Date: 11/8/21.

Accession Number: 20211108-5096.

Comments/Protests Due: 5 p.m. ET 11/29/21.

Docket Numbers: CP22-14-000.

Applicants: Southern Natural Gas Company, L.L.C.

Description: Application for Authorization to Abandon Services of Southern Natural Gas Company, L.L.C.

Filed Date: 11/09/2021.

Accession Number: 20211109-5055.

Comment Date: 5 p.m. ET 11/30/21.

Docket Numbers: RP22-202-000.

Applicants: Tres Palacios Gas Storage LLC.

Description: Compliance filing: Tres Palacios Gas Storage LLC Order No. 587-Z Compliance Filing to be effective 6/1/2022.

Filed Date: 11/9/21.

Accession Number: 20211109-5152.

Comment Date: 5 p.m. ET 11/22/21.

Docket Numbers: RP22-203-000.

Applicants: ANR Storage Company.

Description: Compliance filing: Compliance to RM96-1-042—Order No. 587-Z to be effective 6/1/2022.

Filed Date: 11/9/21.

Accession Number: 20211109-5196.

Comment Date: 5 p.m. ET 11/22/21.

Docket Numbers: RP22-204-000.

Applicants: Midwestern Gas Transmission Company.

Description: Compliance filing: NAESB 3.2 Compliance Filing to be effective 6/1/2022.

Filed Date: 11/9/21.

Accession Number: 20211109-5204.

Comment Date: 5 p.m. ET 11/22/21.

Docket Numbers: RP22-205-000.

Applicants: OkTex Pipeline Company, L.L.C.

Description: Compliance filing: NAESB 3.2 Compliance Filing to be effective 6/1/2022.

Filed Date: 11/9/21.

Accession Number: 20211109-5207.

Comment Date: 5 p.m. ET 11/22/21.

Docket Numbers: RP22-206-000.

Applicants: Guardian Pipeline, L.L.C.

Description: Compliance filing: NAESB 3.2 Compliance Filing to be effective 6/1/2022.

Filed Date: 11/9/21.

Accession Number: 20211109-5209.

Comment Date: 5 p.m. ET 11/22/21.

Docket Numbers: RP22-207-000.

Applicants: Viking Gas Transmission Company.

Description: Compliance filing: NAESB 3.2 Compliance Filing to be effective 6/1/2022.

Filed Date: 11/9/21.

Accession Number: 20211109-5210.

Comment Date: 5 p.m. ET 11/22/21.

Docket Numbers: RP22-208-000.

Applicants: Bison Pipeline LLC.

Description: Compliance filing: Compliance to RM96-1-042—Order No. 587-Z to be effective 6/1/2022.

Filed Date: 11/10/21.

Accession Number: 20211110-5000.

Comment Date: 5 p.m. ET 11/22/21.

Docket Numbers: RP22-209-000.

Applicants: Maritimes & Northeast Pipeline, L.L.C.

Description: Compliance filing: MNUS Order 587-Z (Docket RM96-1-042) Compliance Filing to be effective 6/1/2022.

Filed Date: 11/10/21.

Accession Number: 20211110-5022.

Comment Date: 5 p.m. ET 11/22/21.

Docket Numbers: RP22-210-000.

Applicants: NEXUS Gas Transmission, LLC.

Description: Compliance filing: NEXUS Order 587-Z (Docket RM96-1-042) Compliance Filing to be effective 6/1/2022.

Filed Date: 11/10/21.

Accession Number: 20211110-5025.

Comment Date: 5 p.m. ET 11/22/21.

Docket Numbers: RP22-211-000.

Applicants: Dominion Energy Questar Pipeline, LLC.

Description: Compliance filing: Order No. 587-Z—NAESB 3.2 Compliance Filing to be effective 6/1/2022.

Filed Date: 11/10/21.

Accession Number: 20211110-5035.

Comment Date: 5 p.m. ET 11/22/21.

Docket Numbers: RP22-212-000.

Applicants: Dominion Energy Overthrust Pipeline, LLC.

Description: Compliance filing: Order No. 587-Z—NAESB 3.2 Compliance Filing to be effective 6/1/2022.

Filed Date: 11/10/21.

Accession Number: 20211110-5036.

Comment Date: 5 p.m. ET 11/22/21.

Docket Numbers: RP22-213-000.

Applicants: White River Hub, LLC.

Description: Compliance filing: Order 587-Z—NAESB 3.2 Compliance Filing to be effective 6/1/2022.

Filed Date: 11/10/21.

Accession Number: 20211110-5038.

Comment Date: 5 p.m. ET 11/22/21.

Docket Numbers: RP22-214-000.

Applicants: Eastern Gas Transmission and Storage, Inc.

Description: Compliance filing: EGTS—NAESB Version 3.2 Compliance to be effective 6/1/2022.

Filed Date: 11/10/21.

Accession Number: 20211110-5047.

Comment Date: 5 p.m. ET 11/22/21.

Docket Numbers: RP22-215-000.

Applicants: Cimarron River Pipeline, LLC.

Description: Compliance filing: Order No. 587-Z NAESB 3.2 Compliance to be effective 6/1/2022.

Filed Date: 11/10/21.

Accession Number: 20211110-5040.

Comment Date: 5 p.m. ET 11/22/21.

Docket Numbers: RP22-216-000.

Applicants: Dauphin Island Gathering Partners.

Description: Compliance filing: Order No. 587-Z NAESB 3.2 Compliance to be effective 6/1/2022.

Filed Date: 11/10/21.

Accession Number: 20211110-5042.

Comment Date: 5 p.m. ET 11/22/21.

Docket Numbers: RP22-217-000.

Applicants: Cove Point LNG, LP.

Description: Compliance filing: Cove Point—NAESB Version 3.2 Compliance to be effective 6/1/2022.

Filed Date: 11/10/21.

Accession Number: 20211110-5044.

Comment Date: 5 p.m. ET 11/22/21.

Docket Numbers: RP22-218-000.

Applicants: Carolina Gas Transmission, LLC.

Description: Compliance filing: CGT—NAESB Version 3.2 Compliance to be effective 6/1/2022.

Filed Date: 11/10/21.

Accession Number: 20211110-5049.

Comment Date: 5 p.m. ET 11/22/21.

Docket Numbers: RP22-219-000.

Applicants: KPC Pipeline, LLC.

Description: Compliance filing: Order No. 587-Z Compliance to be effective 6/1/2022.

Filed Date: 11/10/21.

Accession Number: 20211110-5052.

Comment Date: 5 p.m. ET 11/22/21.

Docket Numbers: RP22-220-000.

Applicants: NGO Transmission, Inc.

Description: Compliance filing: Order No. 587-Z Compliance to be effective 6/1/2022.

Filed Date: 11/10/21.

Accession Number: 20211110-5053.

Comment Date: 5 p.m. ET 11/22/21.

Docket Numbers: RP22-221-000.

Applicants: Venice Gathering System, L.L.C.

Description: Compliance filing: Order No. 587-Z Compliance to be effective 6/1/2022.

Filed Date: 11/10/21.

Accession Number: 20211110-5054.

Comment Date: 5 p.m. ET 11/22/21.

Docket Numbers: RP22-222-000.

Applicants: WBI Energy Transmission, Inc.

Description: Compliance filing: 2021 NAESB Version 3.2 Compliance Filing to be effective 6/1/2022.

Filed Date: 11/10/21.

Accession Number: 20211110-5062.

Comment Date: 5 p.m. ET 11/22/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1187-002.

Applicants: Eastern Gas Transmission and Storage, Inc.

Description: Compliance filing: EGTS—Rate Case Compliance Filing to be effective 11/1/2021.

Filed Date: 11/9/21.

Accession Number: 20211109-5048.

Comment Date: 5 p.m. ET 11/22/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2021.
Debbie-Anne A. Reese,
Deputy Secretary.

[FR Doc. 2021-25054 Filed 11-16-21; 8:45 am]

BILLING CODE 6717-01-P